DEPARTMENT OF COMMERCE

National Oceanic and Atmospheric Administration

RIN 0648-XE826

North Pacific Fishery Management Council; Public Meeting

AGENCY: National Marine Fisheries Service (NMFS), National Oceanic and Atmospheric Administration (NOAA), Commerce.

ACTION: Notice of public workshop.

SUMMARY: The North Pacific Fishery Management Council's Abundance-based Prohibited Species Catch (PSC) workshop will meet September 12, 2016.

DATES: The meeting will be held on Monday, September 12, 2016, from 9 a.m. to 5 p.m.

ADDRESSES: The meeting will be held at the Alaska Fishery Science Center 4600 Sand Point Way NE., Building 4, Traynor Room, Seattle, WA 98115.

Council address: North Pacific Fishery Management Council, 605 W. 4th Ave., Suite 306, Anchorage, AK 99501-2252; telephone: (907) 271-2809.

FOR FURTHER INFORMATION CONTACT: Diana Stram, Council staff; telephone: (907) 271-2809.

SUPPLEMENTARY INFORMATION:

Agenda

September 12, 2016

The Council will host a public workshop to provide a presentation on the discussion paper being prepared by the interagency workgroup on halibut abundance-based PSC management approaches. The purpose of the workshop is to provide a public preview of the discussion paper prior to the Council's review at the October Council meeting, to receive feedback on this discussion paper, to better inform the public of the progress on this initiative, and to better facilitate the development of comments from the public to the Council.

The Agenda is subject to change, and the latest version will be posted at http://www.npfmc.org/

Special Accommodations

The meeting is physically accessible to people with disabilities. Requests for sign language interpretation or other auxiliary aids should be directed to Shannon Gleason at (907) 271-2809 at least 7 working days prior to the meeting date.

Dated: August 17, 2016.
Tracey L. Thompson,
Acting Deputy Director, Office of Sustainable Fisheries, National Marine Fisheries Service.

[FR Doc. 2016-19950 Filed 8-19-16; 8:45 am]

BILLING CODE 3510-22-P